DEPARTMENT OF THE INTERIOR

Bureau of Land Management

(SDM 44591)

Notice of Proposed Withdrawal Extension; South Dakota

AGENCY: Bureau of Land Management, Interior.

ACTION: Notice.

SUMMARY: The U.S. Department of Agriculture, Forest Service, has filed an application to extend Public Land Order No. 5793 for an additional 20-year period. This order withdrew National Forest System land from location or entry under the United States mining laws for protection and development of the Terry Peak Electronic Site.

FOR FURTHER INFORMATION CONTACT: Sandra Ward, BLM, Montana State Office, P.O. Box 36800, Billings, Montana 59107, 406-896-5052.

SUPPLEMENTARY INFORMATION: On December 8, 2000, the Forest Service filed an application to extend Public Land Order No. 5793 for an additional 20-year period. Public Land Order No. 5793 withdrew the following-described National Forest System land from location or entry under the United States mining laws, subject to valid existing rights:

Black Hills National Forest

Black Hills Meridian

T. 4 N., R. 2 E.,

Sec. 11, a portion of the NE¼ covered by M.S. 2025, excluding lots 1, 2, and 3.

The area described contains 25 acres in Lawrence County.

The application will be processed in accordance with the regulations set forth in 43 CFR 2300.

Dated: December 12, 2000.
Howard A. Lemm,
Chief, Branch of Land Resources.

[FR Doc. 00-32106 Filed 12-15-00; 8:45 am]

BILLING CODE 3410-11-P